DEPARTMENT OF HOMELAND SECURITY

Federal Emergency Management Agency

[Docket ID: FEMA-2011-0021]

NIMS Public Works Resources: Typed Resource Definitions (FEMA 508-7)

AGENCY: Federal Emergency Management Agency, DHS.

ACTION: Notice of availability; request for comment.

SUMMARY: The Federal Emergency Management Agency (FEMA) is requesting public comments on the NIMS Public Works Resources: Typed Resource Definitions (FEMA 508-7).

DATES: Comments must be received by November 3, 2011.

ADDRESSES: Comments must be identified by Docket ID FEMA-2011-0021 and may be submitted by one of the following methods:

Federal eRulemaking Portal: http://www.regulations.gov. Follow the instructions for submitting comments. Please note that this proposed policy is not a rulemaking and the Federal eRulemaking Portal is being utilized only as a mechanism for receiving comments.

Mail/Hand Delivery/Courier: Office of Chief Counsel, Federal Emergency Management Agency, Room 840, 500 C Street, SW., Washington, DC 20472.

FOR FURTHER INFORMATION CONTACT: Mike Forgy, Branch Chief; 999 E Street, NW., Washington, DC 20463; 202-646-2840 (phone); michael.forgy@dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section. Please submit your comments and any supporting material by only one means to avoid the receipt and review of duplicate submissions.

Docket: The proposed policy is available in docket ID FEMA-2011-0021. For access to the docket to read background documents or comments received, go to the Federal eRulemaking Portal at http://www.regulations.gov. Submitted comments may also be inspected at FEMA, Office of Chief Counsel, Room 840, 500 C Street, SW., Washington, DC 20472.

II. Background

The National Incident Management System (NIMS) provides a consistent nationwide template to enable Federal, State, Tribal, and local governments, nongovernmental organizations, and the private sector to work together to prevent, protect against, respond to, recover from, and mitigate the effects of incidents, regardless of cause, size, location, or complexity. The Federal Emergency Management Agency (FEMA) is requesting public comments on the NIMS Public Works Resources: Typed Resource Definitions (FEMA 508-7). This document supports the Resource Management Component of NIMS. Emergency management and incident response activities require carefully managed resources (personnel, teams, facilities, equipment, and/or supplies) to meet incident needs. Utilization of the standardized resource management concepts such as typing, inventorying, organizing, and tracking will facilitate the dispatch, deployment, and recovery of resources before, during, and after an incident.

Resource typing is defined as categorizing, by capability, the resources requested, deployed, and used in incidents. Resource users at all levels use these standards to identify and inventory resources. Resource kinds may be divided into subcategories (e.g. Public Works) to define more precisely the capabilities needed to meet specific requirements.

FEMA seeks comment on the proposed policy. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov and it will be posted to the NIMS Resource Center at http://www.fema.gov/nims. The final policy will not have the force or effect of law.

Authority: 6 U.S.C. 312; Homeland Security Presidential Directive (HSPD)—5.

Dated: September 20, 2011.
W. Craig Fugate,
Administrator, Federal Emergency Management Agency.

[FR Doc. 2011-25575 Filed 10-3-11; 8:45 am]

BILLING CODE 9111-46-P